DEPARTMENT OF THE INTERIOR

Bureau of Land Management

[ID 320 7122 EO 7979]

DEPARTMENT OF AGRICULTURE

Forest Service

Notice of Availability of Final Environmental Impact Statement (FEIS) for the Smoky Canyon Mine, Panels F and G

AGENCIES: DOI Bureau of Land Management (BLM), Lead Agency; USDA Forest Service (FS), Co-lead Agency; and the State of Idaho, Idaho Department of Environmental Quality, Cooperating Agency.

ACTION: Notice of Availability of the Final Environmental Impact Statement for the Smoky Canyon Mine, Panels F and G Mine Expansion Project.

SUMMARY: In accordance with the National Environmental Policy Act of 1969 (NEPA, 42 U.S.C. 4321 et. seq.) and the Federal Land Policy and Management Act of 1976 (FLPMA, 43 U.S.C. 1701 et. seq.), the DOI Bureau of Land Management (Lead Agency) and the USDA Forest Service (Co-lead Agency) announce the availability of the FEIS for the Smoky Canyon Mine, Panels F and G Mine Expansion Project.

DATES: The FEIS is now available for public review. The BLM Record of Decision will be released no sooner than 30 days after publication of a Notice of Availability of the FEIS in the Federal Register by the Environmental Protection Agency.

ADDRESSES: Copies of the FEIS have been sent to affected Federal, State, and local Government agencies and to interested parties. The FEIS will be available in limited quantities at the Bureau of Land Management, Pocatello Field Office, 4350 Cliffs Drive, Pocatello, Idaho 83204, phone (208) 478-6340 and the Caribou-Targhee National Forest, Soda Springs Ranger District, 410 E. Hooper Avenue, Soda Springs, Idaho 83276, phone (208) 547-4356. It will also be available on the BLM Web site at: http://www.blm.gov/id/st/en/fo/pocatello/programs/planning/smoky_canyon_mine.html and the Caribou-Targhee National Forest Web site at: http://www.fs.fed.us/r4/caribou-targhee/phosphate.

FOR FURTHER INFORMATION CONTACT: Bill Stout, Bureau of Land Management, phone (208) 478-6340; or Jeff Jones, Caribou-Targhee National Forest, phone (208) 236-7572.

SUPPLEMENTARY INFORMATION: The FEIS was prepared to provide decision makers and the public with a complete and objective evaluation of significant environmental impacts, beneficial and adverse, resulting from the proposed action and from all reasonable alternatives.

The proposed extension of on-going mining operations, into Panels F and G, lies within the Caribou-Targhee National Forest in Southeast Idaho, on lands administered by the FS associated with two Federal phosphate leases held by the J.R. Simplot Company (the lessee, hereinafter referred to as the proponent) and are administered by the BLM under authority of the Mineral Leasing Act of 1920. Mining, to recover phosphate ore, and reclamation would take place over an estimated 16-year period. The environmental impacts of the proponent's Proposed Action, six mining alternatives, one no-mining alternative, and eight transportation alternatives are analyzed in the FEIS.

The BLM Idaho State Director, or delegated official, will consult with the Caribou-Targhee National Forest Supervisor regarding surface management and mitigation on leased lands within the Caribou-Targhee National Forest and will make a decision regarding approval of the proposed Mine & Reclamation Plan and several proposed lease modifications. The FS will also make a decision whether to authorize off-lease facilities such as roads and power lines.

The proposed Mine & Reclamation Plan was submitted by the proponent in April 2003. The plan consists of the development of two open mine pits (Panel F, to be located on Federal Phosphate Lease I-27512, and Panel G, to be located on Federal Phosphate Lease I-01441); extension of a power line from the existing Smoky Canyon facilities; construction of permanent external overburden storage areas and runoff/sediment control facilities; and construction of an electrical substation and other mine support facilities. A 2.5-mile haul/access road is proposed to transport ore from Panel F to the existing mill at the Smoky Canyon Mine. Once Panel F is mined out, an additional 7.8-mile haul road is proposed to be constructed from Panel G to the existing Panel F, to transport ore to the mill.

The proposed Panel F pit would extend off of the existing lease. The proponent has applied for a lease modification to enlarge Federal Phosphate Lease I-27512 to accommodate those operations. The application includes two tracts, the North Lease Modification and the South Lease Modification, both for the purpose of ore recovery. Subsequent to preparation of the DEIS, the proponent has also applied for a lease modification to Federal Phosphate Lease I-01441 to accommodate 18 acres of off-lease external overburden fill at Panel G. The environmental impacts of mining off of the existing leases, within the lease modification areas, are analyzed in the FEIS.

Many of these proposed activities would occur within Forest Service Inventoried Roadless Areas. Inventoried Roadless Areas are managed according to local land use plans and Forest Service roadless management regulations, such as the Roadless Area Conservation Rule (RACR). The Agency Preferred Alternative identified in the FEIS may be modified in the Record of Decision to comply with laws and regulations applicable at that time.

The agency Preferred Alternative would approve mining both leases described as Panel F and Panel G. To accommodate the proposed off-lease mining, BLM would approve the lease modifications to I-27512 (Panel F). As described in Mining Alternative D, BLM would require construction of a Store and Release cover system to reduce the infiltration of water through seleniferous backfill and external seleniferous overburden fills. The FS would require power line placement on poles along the haul road corridor, as described in Mining Alternative E. The transportation route between Panel F and the existing mine would be constructed according to the Proposed Action. The agency Preferred Transportation Alternative to access Panel G is the Proposed Action, Panel G West Haul/Access Road. The environmentally preferable transportation alternative would be Alternative 2, the East Haul/Access Road. The Alternative 2 road alignment crosses a portion of private land. Implementation of this alternative is contingent upon the proponent's ability to secure an easement across the private land. Access to Panel G is not required for several years. During that time, if Simplot and the private land holder were to come to a mutual agreement that would provide Simplot an easement, the East Haul/Access Road would replace the Panel G West Haul/Access Road.

Alternatives

Issues were identified for the proposed mining of Panels F and G by the agencies and by the public during the scoping process. They include potential effects on: ground water, surface water, geology and minerals, air quality and noise, soils, vegetation, wetlands, wildlife, fisheries and aquatic life, livestock grazing, recreation, Inventoried Roadless Areas, socio-economics, visual resources, cultural resources, and Tribal Treaty Resources. Alternatives to the proposed action were developed to address these issues.

Mining alternatives include mining without one or both lease modifications to Panel F, no external seleniferous overburden fills, no external overburden fills at all, construction of an infiltration-reducing cover over seleniferous material, constructing the power line only within proposed disturbance, and using generators in Panel G instead of a power line. The transportation alternatives include one variation on the haul road between Panel F and the existing mine, two variations of a haul road from Panel G located east of the project area, a more direct haul road from Panel G to Panel F, a variation of the proposed West Haul Road, and using a conveyor system to transport ore from Panel G to the existing mill. Two variations of the conveyor alternative are assessed with alternate routes for moving personnel and equipment between Panel G and the existing mine.

Jeff Cundick,
Acting District Manager, Idaho Falls District, Bureau of Land Management.

Larry Timchak,
Forest Supervisor, Caribou-Targhee National Forest.

[FR Doc. 07-5333 Filed 10-25-07; 8:45 am]

BILLING CODE 4310-GG-P